FEDERAL RESERVE SYSTEM

Notice of Proposals to Engage in Permissible Nonbanking Activities or to Acquire Companies that are Engaged in Permissible Nonbanking Activities

The companies listed in this notice have given notice under section 4 of the Bank Holding Company Act (12 U.S.C. 1843) (BHC Act) and Regulation Y (12 CFR Part 225) to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

Each notice is available for inspection at the Federal Reserve Bank indicated. The notice also will be available for inspection at the offices of the Board of Governors. Interested persons may express their views in writing on the question whether the proposal complies with the standards of section 4 of the BHC Act. Additional information on all bank holding companies may be obtained from the National Information Center website at www.ffiec.gov/nic/.

Unless otherwise noted, comments regarding the applications must be received at the Reserve Bank indicated or the offices of the Board of Governors not later than March 31, 2008.

A. Federal Reserve Bank of Richmond (A. Linwood Gill, III, Vice President) 701 East Byrd Street, Richmond, Virginia 23261-4528:

1. Bank of America Corporation, Charlotte, North Carolina; to acquire Countrywide Financial Corporation, Calabasas, California, and thereby indirectly acquire Countrywide Bank, FSB, Alexandria, Virginia, Countrywide Home Loans, Inc., Calabasas, California, Countrywide Financial Corporation, Calabasas, California, Countrywide Financial Holding Company, Inc., Calabasas, California, Effinity Financial Corporation, Alexandria, Virginia, Countrywide Tax Services Corporation, Simi Valley, California, CTC Real Estate Services, Calabasas, California, Countrywide Servicing Exchange, Calabasas, California, Countrywide Asset Management Corp., Calabasas, California, Landsafe Appraisal Services, Inc., Plano, Texas, Landsafe Credit, Inc., Richardson, Texas, Landsafe Flood Determination, Inc., Richardson, Texas, Landsafe Title of California, Inc., Rosemead, California, Landsafe Title of Texas, Inc., Rosemead, California, Landsafe Title of Florida, Inc., Calabasas, California, Countrywide Warehouse Lending, Calabasas, California, Countrywide Home Loans Servicing LP, Plano, Texas, Countrywide Mortgage Ventures, LLC, Calabasas, California, Countrywide Commercial Real Estate Finance, Inc., Calabasas, California, The Countrywide Foundation, Calabasas, California, Recontrust Company, National Association, Thousand Oaks, California, CWB Community Assets, Inc., Thousand Oaks, California, Countrywide Commercial Administration LLC, Calabasas, California, Recontrust Company (Nevada) Thousand Oaks, California, Countrywide KB Home Loans, LLC, Thousand Oaks, California, CWB Mortgage Ventures, LLC, Thousand Oaks, California, Landsafe Services of Alabama, Inc., Rosemead, California, Landsafe Title of Maryland, Inc., Calabasas, California and thereby engage in (1) operating a savings association; (2) operating a nondepository trust company; (3) community development activities; (4) extending credit and servicing loans; (5) real estate and personal property appraising; (6) credit bureau services; (7) asset management, servicing, and collection activities; (8) acquiring debt in default; and (9) providing tax services for residential mortgage transaction pursuant to section 225.28(b)(1), 225.28(b)(2), 225.28(b)(4), 225.28(b)(5), 225.28(b)(6) and 225.28(b)(12) of Regulation Y.

In connection with this proposal Bank of America Corporation, has applied to acquire from Bank of America, National Association, Charlotte, North Carolina, 20,000 shares of Series B Non-Voting Convertible Preferred Stock of Countrywide Financial Corporation, Calabasas, California, which is convertible at the option of the holder into approximately 15.7 percent of the voting common stock of Countrywide Financial Corporation.

Board of Governors of the Federal Reserve System, February 27, 2008.
Robert deV. Frierson,
Deputy Secretary of the Board.

[FR Doc. E8-4013 Filed 2-29-08; 8:45 am]

BILLING CODE 6210-01-S